FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants

Uni-Star Logistics, Inc., 520 E. Carson Plaza Court, Suite 206, Carson, CA 90746, Officer: Jong Jae Lee, President (Qualifying Individual)

People & Logistics America, Inc., 21148 S. Figueroa Street, Carson, CA 90745, Officers: Hyn S. Bang, President (Qualifying Individual), Man Youn, CFO

KSO Container Inc., 3200 Wilshire Blvd., Suite 601, (North Tower), Los Angeles, CA 90010, Officers: Joseph A. Lorenzo, Jr., President/CFO (Qualifying Individual), Hyung Shin, Secretary

Commonwealth Custom Broker, Inc., dba C.C.B. Logistics dba C.C.B. Terminal, 8100 NW 29th Street, Miami, FL 33122, Officer: Rick Betancourt, President (Qualifying Individual)

Non-Vessel Operating Common Carrier and Ocean Freight Forwarder Transportation Intermediary Applicants

Gonbros Group Corporation, 2110 SW 3rd Avenue, Suite 4E, Miami, FL 33129-1477, Officers: Andre J. Gonzales, President (Qualifying Individual), Philippe R. Gonzales, Vice President

Dragon America Forwarding Inc., 3847 NW 142nd Terrace, Portland, OR 97229, Officers: Tamie Keeler-Parr, Vice President (Qualifying Individual), Jianian Gordon Chen, President

Global Worldwide, Inc., 4808 Kroemer Road, Fort Wayne, IN 46818, Officers: Donald J. Krengiel, Asst. Secretary (Qualifying Individual), James W. Rogers, Director

Ocean Freight Forwarder—Ocean Transportation Intermediary Applicant

Echo-Translink Systems (ETS), 13027 7th Avenue, NW., Seattle, WA 98177, Ellen Thompson, Sole Proprietor

Dated: October 11, 2002.
Theodore A. Zook,
Assistant Secretary.

[FR Doc. 02-26453 Filed 10-16-02; 8:45 am]

BILLING CODE 6730-01-P